BROADCASTING BOARD OF GOVERNORS

Sunshine Act Meeting Notice

DATE AND TIME: Tuesday, February 25, 2014, 9:30 a.m.-1:30 p.m. EST.

PLACE: Middle East Broadcasting Networks, Suite D, 7600 Boston Blvd., Springfield, VA 22153.

SUBJECT: Notice of Meeting of the Broadcasting Board of Governors.

SUMMARY: The Broadcasting Board of Governors (BBG) will be meeting at the time and location listed above. The Board will vote on a consent agenda consisting of the minutes of the December 18, 2013 meeting and a resolution honoring the 10th anniversary of Alhurra. The BBG will also convene a panel to discuss how the U.S. is viewed through Arabic eyes and receive a presentation providing an overview of the Middle East Broadcasting Networks.

This meeting will be available for public observation via streamed webcast, both live and on-demand, on the BBG's public Web site at www.bbg.gov. Information regarding this meeting, including any updates or adjustments to its starting time, can also be found on the Agency's public Web site.

The public may also attend this meeting in person at the address listed above as seating capacity permits. Member of the public seeking to attend the meeting in person must register at https://bbgboardmeetingfeb2014.eventbrite.com by 12:00 p.m. (EST) on February 24. For more information regarding viewing the meeting online or attending it in person, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2014-03736 Filed 2-18-14; 4:15 pm]

BILLING CODE 8610-01-P